FEDERAL HOUSING FINANCE AGENCY

[No. 2010-N-10]

Notice of Order: Revisions to Enterprise Public Use Database

AGENCY: Federal Housing Finance Agency.

ACTION: Notice of order.

SUMMARY: Section 1323(a)(1) of the Federal Housing Enterprises Financial Safety and Soundness Act of 1992 (Safety and Soundness Act), as amended, requires the Federal Housing Finance Agency (FHFA) to make available to the public the non-proprietary single-family and multifamily loan-level mortgage data elements submitted to FHFA by the Federal National Mortgage Association (Fannie Mae) and the Federal Home Loan Mortgage Corporation (Freddie Mac) (collectively, the Enterprises) in their mortgage reports required under their charter acts. This responsibility to maintain a public use database (PUDB) for such mortgage data was transferred to FHFA from the U.S. Department of Housing and Urban Development (HUD) pursuant to sections 1122, 1126 and 1127 of the Housing and Economic Recovery Act of 2008 (HERA), and was expanded to include data elements required to be reported under the Home Mortgage Disclosure Act of 1975 (HMDA).

Specifically, section 1126 of HERA amended section 1323 of the Safety and Soundness Act by requiring that the Enterprises' mortgage reports include the data elements required to be reported under HMDA at the census tract level, and that such data elements be disclosed to the public. In addition, section 1127 of HERA amended section 1326 of the Safety and Soundness Act by requiring that, subject to privacy considerations as described in section 304(j) of HMDA, the Director of FHFA shall, by regulation or order, provide that certain information relating to single-family mortgage data of the Enterprises shall be disclosed to the public in order to make available to the public—(1) the same data from the Enterprises that is required of insured depository institutions under HMDA; and (2) information collected by the Director of FHFA under section 1324(b)(6) of the Safety and Soundness Act, as amended, for the purpose of comparing the characteristics of high-cost securitized loans.

FHFA provided each Enterprise with an opportunity to review and comment on FHFA's proposed revisions to the single-family and multifamily PUDB matrices which describe the data fields provided in the PUDB. FHFA has taken the Enterprises' comments into consideration, and has adopted an Order that implements certain changes required by HERA to the Enterprises' mortgage loan data reporting and the disclosure of such data in the PUDB. The Order also makes technical changes to the single-family and multifamily data matrices of the PUDB to conform the data fields to long-standing PUDB data reporting practice, to provide greater clarity, or to conform to the new statutory requirements. The Notice of Order sets forth FHFA's Order with accompanying Appendix containing the revised matrices, and describes the changes made to the data fields in the matrices. Changes to the PUDB matrices required by HERA relating to high-cost securitized loans, as well as the Enterprise housing goals for 2010 and beyond, will be implemented by the issuance of subsequent Orders.

DATES: Effective Date of the Order: The Order with accompanying Appendix is effective on July 1, 2010.

FOR FURTHER INFORMATION CONTACT: For questions on data or methodology, contact Paul Manchester, Principal Economist, Office of Housing Mission and Goals, Quantitative Analysis and Goals, 1625 Eye Street, NW., Washington, DC 20006, (202) 408-2946, Paul.Manchester@fhfa.gov; or Ian Keith, Program Analyst, 1625 Eye Street, NW., Washington, DC 20006, (202) 408-2949, Ian.Keith@fhfa.gov. For legal questions, contact Sharon Like, Associate General Counsel, OGC-Housing Mission and Goals, 1700 G Street, NW., Washington, DC 20552, (202) 414-8950, Sharon.Like@fhfa.gov. (These are not toll-free numbers.) The telephone number for the Telecommunications Device for the Hearing Impaired is (800) 877-8339.

SUPPLEMENTARY INFORMATION:

I. Background

A. Establishment of FHFA

Effective July 30, 2008, Division A of HERA, Public Law 110-289, 122 Stat. 2654 (2008), amended the Safety and Soundness Act and created FHFA as an independent agency of the Federal Government. HERA transferred the safety and soundness supervisory and oversight responsibilities over the Enterprises, the Federal Home Loan Banks (Banks), and the Office of Finance from the Office of Federal Housing Enterprise Oversight (OFHEO) and the Federal Housing Finance Board, respectively, to FHFA. HERA also transferred the charter compliance authority, the responsibility to establish, monitor and enforce the affordable housing goals, the responsibility to maintain the PUDB, and the responsibility to oversee Enterprise data reporting, from HUD to FHFA.

FHFA is responsible for ensuring that the Enterprises operate in a safe and sound manner, including maintenance of adequate capital and internal controls, that their operations and activities foster liquid, efficient, competitive, and resilient national housing finance markets, and that they carry out their public policy missions through authorized activities. See 12 U.S.C. 4513.

The Enterprises are government-sponsored enterprises (GSEs) chartered by Congress for the purpose of establishing secondary market facilities for residential mortgages. See 12 U.S.C. 1716 et seq.; 12 U.S.C. 1451 et seq. Specifically, Congress established the Enterprises to provide stability in the secondary market for residential mortgages, respond appropriately to the private capital market, provide ongoing assistance to the secondary market for residential mortgages, and promote access to mortgage credit throughout the nation. Id.

On September 6, 2008, the Director of FHFA appointed FHFA as conservator of the Enterprises in accordance with the Safety and Soundness Act, as amended by HERA, to maintain the Enterprises in a safe and sound financial condition and to help assure performance of their public mission. The Enterprises remain under conservatorship at this time.

B. Statutory Requirements

Section 1323(a)(1) of the Safety and Soundness Act, as amended, 12 U.S.C. 4543(a)(1), requires the Director of FHFA (Director) to make available to the public the non-proprietary data submitted by Fannie Mae and Freddie Mac in their mortgage reports required under section 309(m) of the Federal National Mortgage Association Charter Act, as amended, 12 U.S.C. 1723a(m), and section 307(e) of the Federal Home Loan Mortgage Corporation Act, as amended, 12 U.S.C. 1456(e), respectively (hereafter, Charter Acts). The Enterprises are required to collect, maintain and provide to FHFA in these mortgage reports data relating to their single-family and multifamily mortgage purchases (e.g., income, census tract location, race and gender of mortgagors). The responsibility to maintain a PUDB for mortgage data was transferred from HUD to FHFA pursuant to sections 1122, 1126, and 1127 of HERA.

Section 1126 of HERA also amended section 1323 of the Safety and Soundness Act by adding a new paragraph (a)(2) which requires that such data submitted by the Enterprises in their mortgage reports shall include the data elements required to be reported under HMDA, 12 U.S.C. 2801 et seq., at the census tract level. 12 U.S.C. 4543(a)(2). FHFA construes this language in section 1323(a)(2) to require the Enterprises to submit for inclusion in the PUDB HMDA mortgage data elements that the Enterprises are currently collecting as part of their established mortgage-purchasing activities. Section 1323(a) does not contain a mandate that the Enterprises modify their seller-servicer agreements to collect additional data solely for the purpose of populating the PUDB. While it might be within the scope of statutory discretion for the agency to administer this provision in that way, the Enterprises are currently operating in conservatorship and it would not further the purposes of their conservatorship to do so.

Section 1323(b)(1) states that, except as provided in paragraph (b)(2), the Director may not make available to the public Enterprise data that the Director determines under section 1326 are proprietary. Section 1323(b)(2), as amended, provides that the Director shall not restrict public access to the data in the Enterprise reports related to income, census tract location, race, and gender of single-family mortgagors, or to the data required to be reported under HMDA at the census tract level. See 12 U.S.C. 4543(b)(1), 4543(b)(2), 4546. Consistent with the amendments to section 1323, section 1127 of HERA amended section 1326 of the Safety and Soundness Act by adding a new paragraph (d) which states that, subject to the privacy restrictions described in section 304(j) of HMDA,¹ the Director shall make public certain information relating to single-family mortgage data of the Enterprises: (1) the same data from the Enterprises that is required of insured depository institutions under HMDA; and (2) information collected by the Director under section 1324(b)(6). See 12 U.S.C. 4544(b)(6), 4546(d). Section 1324(b)(6), in turn, part of a section describing the contents of FHFA's Annual Housing Activities Report (AHAR) to Congress, requires FHFA to compare “the characteristics of high-cost loans purchased and securitized by each Enterprise where such securities are not held on portfolio, to loans purchased and securitized where such securities are either retained on portfolio or repurchased by the Enterprise, including such characteristics as—(A) The purchase price of the property that secures the mortgage; (B) the loan-to-value ratio of the mortgage, which shall reflect any secondary liens on the relevant property; (C) the terms of the mortgage; (D) the creditworthiness of the borrower; and (E) any other relevant data, as determined by the Director.” FHFA is continuing to assess the mortgage data elements that are needed to implement section 1324(b)(6), and will issue a subsequent Order, applicable to the PUDB for 2009, that implements this section after it has completed its analysis.²

¹ Section 304(j) of HMDA addresses Loan Application Register (LAR) information and describes, among other things, the manner in which an applicant's privacy interests are to be protected in response to a request for disclosure from the public, including removal of the applicant's name and identification number, the date of the application, and the date of any determination by the institution with respect to such application. In addition, the disclosure of information must ensure that depository institutions are protected from liability under any Federal or State privacy laws.

² HERA also revised the Enterprises' housing goals for 2010 and subsequent years. FHFA will issue a subsequent Order, applicable to the PUDB for 2010, that revises the applicable data fields in the PUDB matrices to reflect HERA's changes to the Enterprise housing goals.

Section 1323, as amended, also includes a new paragraph (d) which states that data submitted under this section by an Enterprise shall be made publicly available no later than September 30 of the year following the year to which the data relates. 12 U.S.C. 4543(d).³

³ The release of the 2008 PUDB was delayed due to the transfer of authority to release the data to the public from HUD to FHFA and technical and operational issues raised by the new HERA data reporting requirements.

C. Description of Enterprise Reporting and PUDB Matrices

From 1993 to 2005, HUD took a number of regulatory and administrative actions to establish and maintain a PUDB, and to withhold from disclosure in the PUDB certain Enterprise mortgage data that HUD had determined to be proprietary information and to release to the public Enterprise mortgage data that HUD had determined to be non-proprietary. FHFA's revisions discussed in this Notice of Order have been made to the PUDB matrices as set forth in HUD's October 4, 2004 Final Order. See 69 FR 59476. The PUDB matrices are data dictionaries, attached as an Appendix to this Notice of Order, which describe the data fields provided in the public release of the data in the PUDB.

The PUDB contains Enterprise single-family and multifamily mortgage loan-level data, including data elements that have been determined to lose their proprietary character when categorized in ranges or otherwise adjusted or recoded. For single-family mortgage data, there are three separate files: a Census Tract File that identifies the census tract location of the mortgaged properties; a National File A containing loan-level data on owner-occupied one-unit properties but without census tract identifiers; and a National File B containing unit-level data on all single-family properties without census tract identifiers. For multifamily data, there are two separate files: a Census Tract File that identifies the census tract location of the mortgaged properties; and a National File that does not identify the location of the mortgaged properties but contains mortgage-level data and unit class-level data on all multifamily properties.

II. Proposed Revisions to the PUDB Matrices

To determine the appropriate treatment of the newly required data elements for purposes of the PUDB, FHFA asked each Enterprise to indicate whether it is collecting the following mortgage purchase data and, if so, to provide such data to FHFA for inclusion in the PUDB: (1) Single-family property type; (2) multifamily lien status; (3) multifamily borrower race or national origin 1-5; (4) multifamily co-borrower race or national origin 1-5; (5) multifamily borrower ethnicity; (6) multifamily co-borrower ethnicity; (7) multifamily borrower gender; (8) multifamily co-borrower gender; (9) multifamily rate spread; and (10) multifamily HOEPA status.⁴ In response to FHFA's request, the Enterprises provided FHFA with single-family property type and multifamily lien status data. The Enterprises did not provide the other information requested, which they stated they do not collect.

⁴ A HOEPA mortgage is a mortgage covered by section 103(aa) of the Home Ownership Equity Protection Act (HOEPA) (15 U.S.C. 1602(aa)), as implemented by the Board of Governors of the Federal Reserve System.

FHFA also provided both Enterprises with an opportunity to review and comment on FHFA's proposed revisions to the single-family and multifamily PUDB matrices. In addition, FHFA stated that it would consider any assertions by the Enterprises that the release of a specific data field would result in the release of their proprietary data, and would make a determination on this matter in accordance with applicable statutory and regulatory requirements. However, data fields that are required to be reported under HMDA at the census tract level, pursuant to section 1323(a)(2) of the Safety and Soundness Act, as amended, are not subject to regulatory and statutory processes for proprietary determinations that might otherwise apply to the release of such data since the disclosure of these data is explicitly required by statute.

Both Enterprises provided comments on a number of the proposed data field revisions, which are discussed in Sections IV. and V. below under the applicable data fields. Certain data fields that FHFA originally considered including in the PUDB, but which it has subsequently decided to omit, are discussed in Section V.

III. Summary of Order's Treatment of HMDA and Other Data Elements in the PUDB

Following is a summary of the changes made to the PUDB matrices to conform to the HMDA data elements, and other technical changes made to data elements in the PUDB matrices, as provided in FHFA's Order. The changes take into account FHFA's analysis of the applicable statutory provisions and FHFA's determinations with respect to the Enterprises' comments on the proposed revisions to the matrices. A more detailed discussion of the changes is contained in Section IV. below.

A. Expanded Values or Changes in Descriptions of Data Fields in the PUDB Matrices

To conform to HMDA reporting requirements, FHFA has expanded the values (i.e., codes) or changed the descriptions of the following data fields in the PUDB matrices: single-family and multifamily Enterprise flag; single-family and multifamily purpose of loan; and single-family and multifamily Federal guarantee.

B. New Data Fields in the PUDB Matrices

As discussed above, FHFA construes section 1323(a)(2) to require the Enterprises to submit for inclusion in the PUDB HMDA mortgage data elements that the Enterprises are currently collecting. Accordingly, FHFA has added new data fields for these HMDA data elements as separate data fields in the PUDB matrices. In addition, as previously noted, FHFA currently is reviewing the data reporting requirements in connection with the high-cost securitized loans analysis that the Director is required to conduct, and upon completion of that review, will issue a new Order requiring the Enterprises to submit such data, as specified by FHFA, for inclusion in the PUDB for 2009.

Specifically, FHFA has added the following new data fields in the PUDB matrices for HMDA data elements that are currently collected and reported by the Enterprises but which had been coded differently in the PUDB: single-family borrower race or national origin 1-5; single-family co-borrower race or national origin 1-5; single-family borrower ethnicity; single-family co-borrower ethnicity; and single-family lien status.

FHFA has added the following new data fields in the PUDB matrices for HMDA data elements that are currently collected and reported by the Enterprises but which had not previously been included in the PUDB: single-family rate spread; single-family HOEPA status; and multifamily lien status (previously reported by Freddie Mac only).

FHFA has also added a new data field for single-family property type, which is currently collected but which had not previously been reported by the Enterprises.

C. HMDA Data Elements Not Incorporated in the PUDB Pursuant to HMDA Section 304(j)

Consistent with section 304(j) of HMDA, the PUDB does not disclose personally identifiable information (PII) contained in loan data reported by the Enterprises to FHFA. FHFA does not receive the applicant's name, identification number, or date of loan application from the Enterprises. FHFA does receive the date of the mortgage note, which is equivalent to the HMDA “action date” for an originated loan, but FHFA does not release this information in the PUDB files with the exception of single-family National File B where it is released in data field 20 in an aggregated form to protect PII.

D. HMDA Data Elements Not Incorporated in the PUDB as Inapplicable

The following HMDA data elements have not been incorporated in the PUDB because they are inapplicable to Enterprise mortgage purchases: as of year; preapproval; action type; purchaser type; denial reason 1-3; edit status; application date prior 2004 flag; multifamily occupancy; and multifamily type of property.

E. Technical Revisions to Data Elements in the PUDB Matrices

FHFA has made technical revisions to the following data fields in the PUDB matrices to conform the data fields to long-standing PUDB data reporting practice or provide greater clarity: loan number; MSA code; county-2000 census; census tract-2000 Census; 2000 census tract-percent minority; 2000 census tract-median income; 2000 local area median income; area median family income; borrower income ratio; “special affordable, seasoned loan: are proceeds recycled?”; single-family Federal guarantee; type of seller institution; and acquisition type.

FHFA has made technical revisions to the following data fields and references in the PUDB matrices to conform to the new statutory requirements: borrower's (or borrowers') annual income; and single-family and multifamily acquisition unpaid principal balance (UPB).

F. Proposed Data Elements Not Included in the PUDB

The following data elements are not currently collected by the Enterprises, and FHFA is not requiring that they be collected and reported for inclusion in the PUDB: multifamily borrower and co-borrower race or national origin; multifamily borrower and co-borrower ethnicity; multifamily borrower and co-borrower gender; multifamily rate spread; multifamily HOEPA status; respondent ID; and agency code.

IV. Discussion of Revisions to PUDB Matrices

To implement the HERA amendments to sections 1323 and 1326 of the Safety and Soundness Act, FHFA has adopted an Order that revises the PUDB matrices to incorporate the HMDA data elements as applicable and requires the Enterprises to submit data in accordance with the revised matrices. The Order also makes a number of technical revisions to existing data fields in the PUDB matrices to conform the data fields to long-standing PUDB data reporting practice, to provide greater clarity, or to conform to the new statutory requirements. The revised matrices are included in an Appendix to the Order. Both the Order and Appendix are set forth at the end of this Notice of Order. Single-family and multifamily PUDB Data Dictionaries that further describe the data fields will be made available on FHFA's public Web site at http://www.fhfa.gov/Default.aspx?Page=137.

FHFA's changes to the single-family and multifamily matrices are further described below.

A. Expanded Values or Changed Descriptions

To conform to HMDA reporting requirements, FHFA has expanded the values (or codes) or changed the descriptions of certain data fields in the PUDB matrices, as further discussed below.

1. Single-family and Multifamily Data Field 0: Enterprise Flag

This data field designates whether the mortgage was purchased by Fannie Mae or Freddie Mac. FHFA has changed the name of this data field from “agency flag” to “Enterprise flag” to avoid confusing this data field with HMDA's “agency code” data field (which is the originating lender's regulatory agency code).

2. Single-family Data Field 22: Purpose of Loan

This data field designates the purpose of the mortgage acquired by the Enterprise (e.g., purchase, refinancing, rehabilitation). HMDA requires the reporting of the purpose of a mortgage, with one of the purpose codes being for home improvement loans. Data field 22 included a code for “rehabilitation” loans, which FHFA believes are substantially equivalent to home improvement loans. Accordingly, to conform to HMDA reporting requirements, FHFA has changed the code name in this data field from “rehabilitation” loan to “home improvement/rehabilitation” loan. In addition, to conform to HMDA reporting requirements, FHFA has added codes in this data field in the single-family Census Tract File to reflect HMDA's additional purpose of loan codes. (See the expanded codes in the single-family matrix in the Appendix.) FHFA has preserved the prior PUDB recoding in this data field in the single-family National File B. FHFA also has expanded the codes in this data field to enable the Enterprises to report second mortgages and home improvement/rehabilitation mortgages as purchase money mortgages where applicable, which allow the Enterprises to claim appropriate credit under the 2005-2009 home purchase subgoals. Second mortgages and home improvement/rehabilitation mortgages identified as purchase money mortgages will be coded as “1=purchase” for the PUDB.

Fannie Mae asked whether a mortgage with a “value of 4” = home improvement/rehabilitation (purchase mortgage) under the “purpose of loan” data field would be disclosed in the PUDB as a “1 = purchase”, or a “4 = home improvement/rehabilitation” mortgage. FHFA is clarifying in this Notice of Order that a mortgage with a “value of 4” will be disclosed in the PUDB as a “purchase” mortgage in the single-family files.

3. Multifamily Data Field 21: Purpose of Loan

This data field designates the purpose of the mortgage acquired by the Enterprise (e.g., purchase, refinancing, rehabilitation). For the reasons discussed above for single-family data field 22, FHFA has changed the “rehabilitation” loan purpose code in this data field in the multifamily matrix to “home improvement/rehabilitation” loan. To conform to HMDA reporting requirements, FHFA has also added codes in this data field in the multifamily Census Tract File to reflect HMDA's additional purpose of loan codes (see the expanded codes in the multifamily matrix in the Appendix), while recoding non-HMDA values as “not applicable/not available/other” for the multifamily Census Tract File.

Fannie Mae commented that multifamily loan purpose currently is collected through one of four acquisition systems, depending on the transaction structure (e.g., acquisition, refinance, equity, and conversion). Fannie Mae indicated that when it delivers this information to FHFA, it identifies the loan purpose as purchase, refinance, new construction, rehabilitation or not applicable/not available based on the loan purpose provided by the seller, special feature codes, and other information. Fannie Mae stated that this process of reporting the multifamily “purpose of loan” data might cause some confusion for users trying to align the HMDA data with the PUDB data. Accordingly, users of the PUDB and HMDA data should be aware of the potential reporting discrepancy in the purpose of loan data field in these two databases.

4. Single-family Data Field 27 and Multifamily Data Field 34: Federal Guarantee

This data field identifies the source of the Federal guarantee or insurance of the loan acquired by the Enterprise. Since 2001, the Enterprises have been reporting loans insured or guaranteed by the Federal Housing Administration, Department of Veterans Affairs, and Rural Housing Service using an expanded set of values. To conform to HMDA reporting requirements, FHFA has expanded the codes in the single-family and multifamily Census Tract Files to reflect HMDA's additional Federal loan guarantee or insurance sources. (See the expanded codes in the single-family and multifamily matrices in the Appendix.) For single-family National File A, single-family National File B, and the multifamily National File, FHFA has preserved the prior PUDB recoding. The description for data field 34 in the multifamily matrix has also been changed from “Government Insurance” to “Federal Guarantee” to be consistent with the description in data field 27 of the single-family matrix. A technical revision has also been made to this data field, as discussed under Section IV.E. below.

B. New Data Fields

1. Data Elements Currently Collected and Reported But Previously Coded Differently in the PUDB

To conform to HMDA reporting requirements, FHFA has added the following new data fields to the PUDB matrices for data elements that are currently collected and reported by the Enterprises but which had been coded differently in the PUDB.

a. Single-family Data Fields 41a-41e: Borrower Race or National Origin 1-5

These data fields identify the race or national origin of the borrower of the loan acquired by the Enterprise. Since 2004, the Enterprises have been reporting single-family borrower race or national origin in accordance with five defined fields—borrower race1-borrower race5—but the data was included in a single race or national origin field in the PUDB. The Enterprises did not comment on these data fields.

To conform to HMDA reporting requirements, FHFA has incorporated these five fields in the single-family Census Tract File to reflect HMDA's borrower race or national origin fields. (See the single-family matrix in the Appendix for the specific codes that apply to these data fields.) FHFA is continuing to include the data as a single data field in National Files A and B, using an algorithm for collapsing the five borrower race or national origin fields and borrower ethnicity field to the single field. The single data field in National Files A and B is constructed as follows:

i. If the borrower ethnicity field indicates that the borrower is Hispanic or Latino, then the single field's value indicates the value for “Hispanic or Latino” regardless of race (consistent with reporting prior to 2004);

ii. Otherwise, if a unique value within borrower race1- borrower race5 indicates that the borrower is American Indian or Alaskan Native, Asian, Black or African American, Native Hawaiian or Other Pacific Islander, or White, then the single field's value is that unique value (this includes multiple selections of that unique value);

iii. Otherwise, if the values within borrower race1- borrower race5 indicate that the borrower has selected more than one of American Indian or Alaskan Native, Asian, Black or African American, Native Hawaiian or Other Pacific Islander, or White, then the single field's value indicates “Two or more races”;

iv. Otherwise, the single field's value indicates “not available/not applicable” (i.e., no indication of race or ethnicity provided).

b. Single-family Data Field 41f: Borrower Ethnicity

This new data field identifies the ethnicity of the borrower of the loan acquired by the Enterprise. The Enterprises have been reporting single-family borrower ethnicity to FHFA, but these data were previously included under code 7 (Hispanic or Latino) in data field 41 in the single-family PUDB files and not as a separate data field. The Enterprises did not comment on this data field.

To conform to HMDA reporting requirements for borrower ethnicity, FHFA has added this data element as new data field 41f in the single-family Census Tract File. (See the single-family matrix in the Appendix for the specific codes that apply to this data field.)

c. Single-family Data Fields 42a-42e: Co-Borrower Race or National Origin 1-5

These data fields identify the race or national origin of the co-borrower of the loan acquired by the Enterprise. Since 2004, the Enterprises have been reporting single-family co-borrower race or national origin to FHFA in accordance with five defined fields—co-borrower race1- co-borrower race5—but the data was included in a single race or national origin field in the PUDB. The Enterprises did not comment on these data fields.

To conform to HMDA reporting requirements, FHFA has incorporated these five fields in the single-family Census Tract File to reflect HMDA's co-borrower race or national origin fields. (See the single-family matrix in the Appendix for the specific codes that apply to these data fields.) FHFA is continuing to include the data as a single data field in single-family National Files A and B, and the algorithm used for collapsing the five co-borrower race or national origin fields and co-borrower ethnicity field to the single data field is the same as that used for the five borrower race or national origin fields and borrower ethnicity field discussed under single-family data fields 41a-41e above.

d. Single-Family Data Field 42f: Co-Borrower Ethnicity

This new data field identifies the ethnicity of the co-borrower of the loan acquired by the Enterprise. The Enterprises have been reporting single-family co-borrower ethnicity to FHFA, but the data was previously included under code 7 (Hispanic or Latino) in data field 42 in the single-family PUDB files, and not as a separate data field. The Enterprises did not comment on this data field.

To conform to HMDA reporting requirements for co-borrower ethnicity, FHFA has added this data element as new data field 42f in the single-family Census Tract File. (See the single-family matrix in the Appendix for the specific codes that apply.)

e. Single-Family Data Field 59: Lien Status

This new data field identifies the lien status of the single-family loans acquired by the Enterprises. The Enterprises have been reporting single-family lien status under the “purpose of loan” data field. Freddie Mac confirmed that it collects single-family lien status data when it purchases mortgage loans and currently provides this data to FHFA. Freddie Mac stated that the single-family lien status data field should be identified in the PUDB as “not applicable” because of the Enterprises' status as loan purchasers, asserting that the HMDA instructions specifically differentiate between the reporting requirements and data element coding for originated versus purchased loans. Fannie Mae did not comment on single-family lien status.

The HMDA instructions do distinguish, for purposes of some data elements, between insured depository institutions that are loan purchasers and those that are loan originators. Fannie Mae and Freddie Mac, because they are not insured depository institutions, do not have any status under HMDA, either as originators or as purchasers. But they are, as a result of their activities, in possession of HMDA data elements for the loans that they purchase. In its role as the agency charged with administering the Safety and Soundness Act, FHFA, by this Order, is identifying the data elements that must be reported and included in the PUDB. Since the Enterprises have been collecting and reporting single-family lien status data, FHFA is requiring the Enterprises to continue reporting that data for inclusion in new data field 59 for lien status in the single-family Census Tract File. FHFA has populated the data field using the lien status data reported for data field 22 (purpose of loan), and will do the same for subsequent years.

2. Data Elements Currently Collected and Reported But Not Previously Included in the PUDB

a. Single-Family Data Field 56: Rate Spread

This new data field designates the difference between the annual percentage rate (APR) and the applicable Treasury rate (see the Truth in Lending regulations at 12 CFR part 226 (Regulation Z)) for single-family mortgages purchased by the Enterprises. The Enterprises have been reporting rate spread data for single-family mortgages, but this data was not previously included in the PUDB. Fannie Mae requested that the PUDB include “not applicable” as an allowable value for the single-family rate spread data field, on the basis that HMDA does not require the disclosure of rate spread information for single-family rate spreads falling below specified thresholds (equal to or greater than 3 percentage points for first lien loans, or 5 percentage points for subordinate lien loans). In addition, Fannie Mae stated that HMDA does not require purchasers to disclose rate spread information. Freddie Mac expressed similar views.

Since the Enterprises have been collecting and reporting rate spread data for single-family mortgages, FHFA is requiring the Enterprises to continue reporting that data, which will be included in new data field 56 in the single-family Census Tract File.

For 2008, HMDA requires the reporting of values for rate spread of 3.0 and greater for first liens, and 5.0 and greater for subordinate liens. For 2009 and subsequent years, HMDA requires the reporting of values for rate spread of 1.5 and 3.5, respectively. Values below these thresholds, including values that would be identified as “not applicable,” will be reported as a numeric zero (“0”) because the PUDB is released as a numeric-only database.

b. Single-Family Data field 57: HOEPA Status

This new data field designates whether a single-family loan acquired by the Enterprise is subject to HOEPA, as implemented in Regulation Z, 12 CFR 226.32, because the APR or the points and fees on the loan exceed the HOEPA triggers.⁵ The Enterprises have been collecting and reporting the HOEPA status of single-family loans to FHFA, but this data was not previously included in the PUDB. Fannie Mae commented that, under its business policies, single-family mortgages that are subject to HOEPA are not eligible for sale to Fannie Mae. However, such loans can be purchased inadvertently by the Enterprises. Freddie Mac did not comment on single-family HOEPA status.

⁵ HOEPA applies to a “consumer credit transaction that is secured by the consumer's principal dwelling” in which either the APR, or the total points and fees payable by the consumer at or before loan closing, exceed certain specified amounts.

Accordingly, to conform to HMDA reporting requirements for HOEPA status, FHFA has added this data element as new data field 57 in the single-family Census Tract File.

c. Multifamily Data Field 50: Lien Status

This new data field identifies the lien status of the multifamily loans acquired by the Enterprises. Unlike single-family lien status, multifamily lien status is not currently included in the “purpose of loan” data field in the multifamily matrix. Fannie Mae has collected but not reported this data in the past. Freddie Mac confirmed that it collects multifamily lien status data when it purchases mortgage loans and currently provides this data to FHFA for housing goals purposes.

In response to FHFA's request, Freddie Mac and Fannie Mae provided FHFA with the multifamily lien status data necessary to populate the new multifamily lien status data field for the PUDB. However, Freddie Mac stated that the multifamily lien status data field should be identified in the PUDB as “not applicable” because of the Enterprises' status as loan purchasers, making the argument (already addressed above) that the HMDA instructions differentiate between the reporting requirements and data element coding for originated versus purchased loans.

Since the Enterprises have been collecting multifamily lien status data, FHFA is requiring the Enterprises to report that data for inclusion in new data field 50 for lien status in the multifamily Census Tract File.

3. Data Element Currently Collected But Not Previously Reported—Single-Family Data Field 58: Property Type

This new data field identifies the type of property securing the loan acquired by the Enterprises. HMDA reporting requirements differentiate the single-family property type data element as single-family or manufactured housing. The Enterprises have not previously been required to distinguish between single-family and manufactured housing in their data reporting to FHFA.

In response to FHFA's request, Fannie Mae and Freddie Mac provided FHFA with the requested single-family property type data. Fannie Mae commented that it collects and reports manufactured housing data in a manner different from that of HMDA reporters. Specifically, Fannie Mae stated that the HMDA definition of “manufactured home” incorporates the definition used by HUD and includes modular homes, while Fannie Mae requires that manufactured housing be built on a permanent chassis that is attached to a permanent foundation.

Subsequent discussions with Fannie Mae revealed that it distinguishes between modular homes that are “on-frame” (i.e., built on a permanent chassis and ready for occupancy upon leaving the factory but not subject to HUD code standards) and “off-frame” (i.e., housing that is not ready for occupancy upon leaving the factory but must be constructed on-site). Fannie Mae indicated that it does not purchase any loans relating to “on-frame” modular homes. Accordingly, it appears that the types of loans that Fannie Mae purchases are secured by manufactured homes that meet both the HMDA and HUD code standards.

Fannie Mae does purchase loans secured by off-frame modular homes that need to be constructed on-site. However, these modular homes would not qualify as “manufactured homes” under either HMDA's or HUD's standards since they are not ready for occupancy upon leaving the factory. These homes would be designated as single-family homes.

Fannie Mae also asserted that there are timing discrepancies with regard to the reporting of data for the PUDB and HMDA. It stated that lenders report to HMDA those loans that are purchased or originated in the reporting year, while Fannie Mae reports to FHFA all mortgages purchased in a year—whether originated in the current year or seasoned loans. FHFA recognizes that because of these differences in the nature of the PUDB and HMDA, timing differences in the reporting of single-family property data are inevitable. Nevertheless, since this is a HMDA-required data field (see 12 CFR 203.4(a)(4)), FHFA is required to obtain such data from the Enterprises.

Accordingly, to conform to HMDA reporting requirements for property type, FHFA has added property type, without modification, as new data field 58 in the single-family Census Tract File.

C. HMDA Data Elements Not Incorporated in the PUDB, Consistent With Section 304(j) of HMDA

Section 1326(d) of the Safety and Soundness Act, as amended, provides that the information related to loan applicants' privacy interests as described in section 304(j) of HMDA shall not be disclosed to the public. Section 304(j) requires specifically that the following PII not be disclosed to the public:

(1) The applicant's name and identification number;

(2) The date of the loan application; and

(3) The date of any determination by the lending institution with respect to the application.

In addition, section 304(j) requires that any disclosure of information must ensure that depository institutions are protected from liability under any Federal or State privacy laws.

Consistent with section 304(j) of HMDA, the PUDB does not disclose PII contained in loan data reported by the Enterprises to FHFA. FHFA does not receive the loan applicant's name, identification number, or date of loan application from the Enterprises. FHFA does receive the date of the mortgage note, which is equivalent to the HMDA “action date” for an originated loan, but FHFA does not release this information in the PUDB files with the exception of single-family National File B where it is released in data field 20 using the following recoded values to protect PII: 1 = originated same calendar year as acquired; 2 = originated prior to calendar year of acquisition; or 9 = missing.

D. HMDA Data Elements Not Incorporated in the PUDB as Inapplicable

The HMDA data fields discussed below have not been incorporated in the PUDB because they are inapplicable to Enterprise mortgage purchases.

1. As of Year

This data field indicates the calendar year in which the HMDA data are being released, and is created by the Federal Financial Institutions Examination Council (FFIEC) in developing the publicly-released HMDA database. Since it is not a data element required to be reported by HMDA-reporting institutions, FHFA has not added this data field to the PUDB.

2. Preapproval

This HMDA data element indicates whether the loan involved a request by a household to the HMDA-reporting lender for preapproval of a loan. FHFA has not added this data field to the PUDB because all loans in the PUDB had to have been originated in order to be acquired by the Enterprises.

3. Action Type

This HMDA data element indicates the type of action taken on the loan by the HMDA-reporting lender, e.g., loan originated, application approved but not accepted, application denied, application withdrawn, or other specified reasons. FHFA has not added this data field to the PUDB as all loans in the PUDB had to have been originated in order to be acquired by the Enterprises.

4. Purchaser Type

This HMDA data element indicates the type of entity that purchased the loan from the HMDA-reporting lender. FHFA has not added this data field to the PUDB because the Enterprises are always the purchasers of the loans disclosed in the PUDB and this data is released in data field 0, “Enterprise flag” (formerly called “agency flag”).

5. Denial Reason 1-3

This HMDA data element indicates the reasons a loan was denied by the HMDA-reporting lender. FHFA has not added this data field to the PUDB because all of the loans in the PUDB had to have been originated in order to be acquired by the Enterprises and, therefore, could not have been denied.

6. Edit Status

This data field indicates the validity and/or quality status of the data reported by the HMDA-reporting institution. The data field is created by FFIEC in developing the publicly-released HMDA database. Since the data field is not required to be reported by HMDA-reporting institutions, and the data released to FHFA for inclusion in the PUDB is certified as accurate by the Enterprises, FHFA has not added this data field to the PUDB.

7. Application Date Prior 2004 Flag

This HMDA data field indicates why certain fields added to HMDA reporting in 2004 were reported under pre-2004 reporting standards, e.g., the expanded race/ethnicity fields. The data field was created by FFIEC in developing the publicly-released HMDA database, and is based on the date of the loan application reported by HMDA-reporting lenders. The date of the loan application is private applicant information under section 304(j) of HMDA, and the flag is now essentially moot as there currently are few, if any, pre-2004 loan applications reported in the HMDA database. Accordingly, FHFA has not added this data field to the PUDB.

8. Multifamily: Occupancy

This HMDA data element identifies whether the property to which the loan relates is to be owner-occupied as a principal residence. This data field is not relevant to the PUDB multifamily Census Tract File because the PUDB reports data for single-family and multifamily loans in separate files, and multifamily properties, by definition, are occupied by renters and thus not owner-occupied.

9. Multifamily: Type of Property

This HMDA data element identifies the type of property securing the loan made by the HMDA-reporting lender. This data element is not relevant to the Enterprise PUDB multifamily Census Tract File because the PUDB reports data for single-family and multifamily loans in separate files and, therefore, all loans in the multifamily files are, by definition, secured by multifamily properties.

E. Technical Revisions to Data Fields in the PUDB Matrices

1. Conforming to Long-Standing PUDB Reporting Practice or Providing Greater Clarity

FHFA has made technical revisions to certain data fields in the PUDB matrices to conform the data fields to long-standing PUDB data reporting practice or provide greater clarity, as further discussed below.

a. Single-Family and Multifamily Data Field 1: Loan Number

This data field designates the sequence number assigned by FHFA in the PUDB files that corresponds to the loan number assigned by the Enterprise. FHFA has changed the description of this data field to conform the description to the long-standing practice of using randomly generated sequence numbers (and not random numbers as the previous description suggested) to identify Enterprise mortgage loan purchases in the PUDB. Each loan record is assigned a different sequence number that is randomly generated within each file. Thus, the first loan record in the Census Tract File is not also the first loan record in the National File A or National File B with a very high degree of probability. A similar change to the description of this data element has been made in data field 1 of the multifamily matrix.

b. Single-Family and Multifamily Data Field 4: MSA Code

This data field designates the Metropolitan Statistical Area (MSA) Code for the location of the property securing the Enterprise mortgage loan. Consistent with long-standing PUDB data reporting practice, FHFA has revised this data field in the single-family and multifamily Census Tract Files to include a value “99999” for properties located outside of an MSA (e.g., rural locations or micropolitan statistical areas). In addition, consistent with long-standing PUDB data reporting practice, FHFA has added in the matrix for the Census Tract File a value entitled “Other” for properties located in a specific MSA, which would be applicable to any 5-digit number other than 00000 (for missing property location) or 99999.

c. Single-Family and Multifamily Data Field 6: County—2000 Census

This data field designates the county location of the property securing the Enterprise mortgage loan. FHFA has renamed the data field from “County—1990 Census” to “County—2000 Census,” as the Enterprises have reported 2000 Census geography since 2003. The reference in this and other data fields to the 2000 Census will be updated to refer to the 2010 Census when applicable to a future PUDB.

d. Single-Family and Multifamily Data Field 7: Census Tract—2000 Census

This data field designates the census tract location of the property securing the Enterprise mortgage loan. FHFA has renamed the data field from “Census Tract/BNA—1990 Census” to “Census Tract—2000 Census,” as the Enterprises have reported 2000 Census geography since 2003, and Block Numbering Areas (BNAs) were phased out after the 1990 Census.⁶

⁶ http://www.census.gov/geo/www/cen_tract.html.

e. Single-Family and Multifamily Data Field 11: 2000 Census Tract—Percent Minority

This data field designates the percentage of the population that belongs to all minority groups in the census tract location of the property securing the Enterprise mortgage. FHFA has renamed this data field from “1990 Census Tract—Percent Minority” to “2000 Census Tract—Percent Minority,” as the Enterprises have used 2000 census tract demographic data since 2005.

f. Single-Family and Multifamily Data Field 12: 2000 Census Tract—Median Income

This data field designates the family area median income (AMI) of the census tract location of the property securing the Enterprise mortgage. FHFA has renamed this data field from “1990 Census Tract—Median Income” to “2000 Census Tract—Median Income,” as the Enterprises have used 2000 census tract data since 2005.

g. Single-Family and Multifamily Data Field 13: 2000 Local Area Median Income

This data field designates the AMI for the location of the property securing the Enterprise mortgage, which is: The MSA for properties located in an MSA; or the county or State non-metropolitan area for properties located outside an MSA, whichever is greater. FHFA has renamed this data element from “1990 Local Area Median Income” to “2000 Local Area Median Income,” as the Enterprises have used 2000 census tract data since 2005.

h. Single-Family Data Field 16: Area Median Family Income

This data field designates the AMI for the location of the property securing the Enterprise mortgage for the reporting year (i.e., year of mortgage acquisition by the Enterprise), which is: The MSA for properties located in an MSA; or the county or State non-metropolitan area for properties located outside an MSA, whichever is greater. FHFA has eliminated the incorrect reference in the data field to “withheld as proprietary,” as this data field has always been non-proprietary in the single-family database.

i. Single-Family Data Field 17: Borrower Income Ratio

This data field identifies the ratio of the borrower's annual income to the AMI (data field 16). FHFA has eliminated the incorrect reference in the data field to “withheld as proprietary,” as this data field has always been non-proprietary (i.e., only coded 9999 when borrower income or AMI is unknown) in the single-family database.

j. Single-Family Data Field 25 and Multifamily Data Field 24: “Special Affordable, Seasoned Loan: Are Proceeds Recycled?”

This data field identifies the specific reasons in accordance with 12 CFR 1282.14(e) for an Enterprise claiming Special Affordable Housing Goal credit for the Enterprise's purchase of loans that originated more than one year prior to the date of acquisition. FHFA has expanded the reporting codes for this data field to include additional reasons set forth under 12 CFR 1282.14(e), as the Enterprises have reported their mortgage data using these expanded codes since 2001.

k. Single-Family Data Field 27: Federal Guarantee

This data field identifies the source of the Federal guarantee or insurance of the loan acquired by the Enterprise. The single-family loan matrix previously included a code 4 for the purchase of a mortgage that assists in maintaining the affordability of assisted units in eligible multifamily housing projects with expiring contracts. The code is not applicable to single-family transactions and already appears in the multifamily loan matrix. Accordingly, FHFA has deleted this code from the single-family loan matrix.

l. Single-Family Data Field 34 and Multifamily Data Field 33: Type of Seller Institution

This data field identifies the type of seller of the loan to the Enterprise. FHFA has expanded the reporting codes for this data field to include additional types of sellers, as the Enterprises have reported their mortgage data using these expanded codes since 2001. For single-family National File B and the multifamily Census Tract File, FHFA is preserving the prior PUDB data field recoding, which is: 1 = Mortgage Company; 2 = SAIF Insured Depository Institution; 3 = BIF Insured Depository Institution; 4 = NCUA Insured Credit Union; 5 = Other. The prior PUDB data field recoding is also preserved for the multifamily National File.

m. Single-Family Data Field 38 and Multifamily Data Field 36: Acquisition Type

This data field identifies the type of acquisition by the Enterprise (e.g., credit enhancement, purchase of State or local mortgage revenue bond). FHFA has expanded the reporting codes for this data field to include additional acquisition types, as the Enterprises have reported their mortgage data using these expanded codes since 2003. Fannie Mae noted that the proposed addition of the acquisition type code of “61 = asset management refinance” is not applicable to single-family transactions and already appears in the multifamily loan matrix. FHFA agrees with this comment and, as a result, has not included this code in the single-family matrix.

2. Conforming to New Statutory Requirements

FHFA has made technical revisions to certain data fields and references in the PUDB matrices to conform to the new HERA requirements, as further discussed below.

a. Single-Family Data Field 15: Borrower's (or Borrowers') Annual Income

This data field identifies the borrower's or borrowers' annual income, which is the numerator of the borrower income ratio reported in data field 17. To be consistent with HMDA reporting requirements, FHFA is now rounding the values reported for this data field to the nearest $1,000 (where values of $500 or more are rounded up) of the borrower's annual income, in addition to the current practice of recoding in terms of dollars for year of acquisition.

b. Single-Family Data Field 18 and Multifamily Data Field 17: Acquisition UPB

Consistent with section 1323(b)(2) of the Safety and Soundness Act, as amended,⁷ FHFA is not applying the same methods that previously were used to mask loan acquisition UPB data, i.e., FHFA has removed the topcoding and the use of categories in reporting acquisition UPB that previously were applied to this data field as described in the single-family matrix. The loan acquisition UPB is rounded to the nearest $1,000 (where values of $500 or more are rounded up), consistent with HMDA reporting requirements. Similarly, the multifamily loan acquisition UPB data is rounded to the nearest $1,000 (where values of $500 or more are rounded up) to conform to HMDA reporting practice.

⁷ Section 1323(b)(2) prohibits the Director from restricting public access to the data elements required to be reported under HMDA at the census tract level.

The Enterprises collect two values of UPB, both of which correspond to the HMDA data field “loan amount”: Acquisition UPB and origination UPB. Historically, they have reported, and the PUDB has included, acquisition UPB. Because this HMDA data element is rounded to the nearest $1000, and because the majority of loans acquired by the Enterprises are current-year originations for which there is a negligible amount of amortization between origination and acquisition, there is no difference between the values in most cases. FHFA will continue to include acquisition UPB in the PUDB.

c. References to “Enterprises” and Regulatory Cites

To reflect revisions in terminology as a result of the enactment of HERA, FHFA has changed the references to “GSEs” in the PUDB matrices to “Enterprises.” The PUDB is applicable only to loan data submitted by the Enterprises, i.e., Fannie Mae and Freddie Mac. The PUDB is not applicable to loan data submitted by the Banks, which are also GSEs but are subject to separate PUDB reporting requirements. The regulatory cites in the PUDB matrices have also been revised, as the applicable regulatory provisions are now located in Title 12 of the Code of Federal Regulations.

V. Proposed Data Elements Not Currently Collected That Will Not Be Included in the PUDB

FHFA had originally considered requiring the reporting and public release of data fields for multifamily borrower and co-borrower race or national origin, multifamily borrower and co-borrower ethnicity, multifamily borrower and co-borrower gender, multifamily rate spread, multifamily HOEPA status, respondent ID and agency code. After considering the Enterprises' comments, and upon further review of the statutory requirements, as discussed in Section I.B. above, FHFA has determined that the Enterprises are not required under HERA to report these data elements as they do not currently collect these data. The Enterprises presented additional arguments for why they should not be required to collect and report these data, which are discussed below.

A. Multifamily Borrower and Co-Borrower Race or National Origin; Multifamily Borrower and Co-Borrower Ethnicity; and Multifamily Borrower and Co-Borrower Gender

FHFA considered adding new HMDA data fields to the PUDB that would have identified multifamily borrower and co-borrower race or national origin, multifamily borrower and co-borrower ethnicity, and multifamily borrower and co-borrower gender. Both Fannie Mae and Freddie Mac commented that they do not collect race, national origin, ethnicity, or gender for their multifamily loan purchases since the vast majority of their multifamily mortgage business involves non-natural persons (e.g., limited liability companies, corporations). Freddie Mac stated that HMDA does not require these data elements to be reported for loans involving a borrower or applicant that is not a natural person (citing to 12 CFR part 203, App. A at I.D.1), or by secondary market loan purchasers (citing to 12 CFR 203.4(b)(2)). In addition, both Fannie Mae and Freddie Mac claimed that collecting such data would involve considerable expense and significant additional work and resources. Freddie Mac requested that FHFA consider these data elements to be optional and reportable as “not applicable” in accordance with HMDA reporting requirements for purchased loans.

Since the Enterprises are not currently collecting these data, and the data point is not a HMDA data element for the great majority of multifamily loans that the Enterprises purchase, as to which the borrowers are non-natural persons, and collecting the data would impose a substantial additional burden on the Enterprises while they are in conservatorship, FHFA is not requiring the Enterprises to collect and report these data for inclusion in the PUDB.

B. Multifamily Rate Spread

FHFA considered adding a new HMDA data field to the PUDB that would have designated the difference between the APR and the applicable Treasury rate for multifamily mortgages acquired by the Enterprise. Both Enterprises commented that they do not collect multifamily rate spread, and maintained that this data field is not applicable to multifamily lending under Regulation Z (12 CFR 226.1(c), which implements the Truth in Lending Act) and HOEPA. Fannie Mae contended that, for loans subject to Regulation Z, the reporting entity is required to provide information on certain “high-priced mortgage loans,” but stated that Regulation Z does not apply to extensions of credit to non-natural persons (citing to 12 CFR 226.3(a)(2)). Freddie Mac asserted that HMDA does not require the collection and reporting of data for purchased loans, and both Enterprises stated that requiring the collection of this data would involve considerable expense and impose a significant regulatory burden.

Since the Enterprises are not currently collecting this data, and the data point is not a HMDA data element for the great majority of multifamily loans that the Enterprises purchase, as to which the borrowers are non-natural persons, and collecting the data would impose a substantial additional burden on the Enterprises while they are in conservatorship, FHFA is not requiring the Enterprises to collect and report this data for inclusion in the PUDB.

C. Multifamily HOEPA Status

FHFA considered adding a new HMDA data field to the PUDB that would have designated whether the multifamily loan acquired by the Enterprise is subject to HOEPA because the APR or the points and fees on the loan exceed the HOEPA triggers. Both Enterprises stated that they do not collect multifamily HOEPA status and, for the reasons discussed under the multifamily rate spread discussion above, maintained that this data field is also not applicable to multifamily lending under Regulation Z and HOEPA. Fannie Mae also stated that HOEPA applies “to a consumer credit transaction that is secured by the consumer's principal dwelling” and does not apply to multifamily properties.

For the reasons stated with respect to the multifamily data elements discussed above, FHFA is not requiring the Enterprises to collect and report this data for inclusion in the PUDB.

D. Single-Family and Multifamily Respondent ID and Agency Code

FHFA considered adding new HMDA data fields to the PUDB that would have designated the identification number (respondent ID) assigned by a HMDA-reporting lender's regulatory agency to the institution that reported the loan, and the code of the regulatory agency (agency code) for the HMDA-reporting lender that provided the loan to the borrower. The Enterprises have not been collecting respondent IDs and agency codes for their single-family or multifamily loan purchases.

Fannie Mae and Freddie Mac opposed inclusion in the PUDB of the respondent ID and agency code data fields, claiming that these are not required HMDA data fields, as described in Regulation C (citing to 12 CFR 203.4(a)) and, therefore, they are not data elements required to be reported in the PUDB under HERA.

Freddie Mac also asserted that even if respondent ID and agency code constitute data elements under HMDA, HMDA reporters that are purchasers are not required to report from whom they purchased a loan (whether from the originator or from another entity). Fannie Mae also stated that currently it collects and reports to FHFA the type of institution that sold the loan to Fannie Mae (single-family data field 34 and multifamily data field 33), and this data is disclosed in the PUDB and provides a more specific description than revealed by agency code of the type of institution from which Fannie Mae purchases its loans.

In addition, Fannie Mae asserted that if FHFA concludes that respondent ID is a HMDA data element, it would request proprietary treatment under 24 CFR 81.74(b) to prevent the public release of this data, which Fannie Mae believes will result in competitive harm.

Since the Enterprises are not collecting these data, and doing so would impose a substantial additional burden on them while they are in conservatorship, FHFA is not requiring the Enterprises to collect and report these data for inclusion in the PUDB. In particular, it would be burdensome, expensive and time-consuming for the Enterprises to make the necessary changes to their seller-servicer guidelines and infrastructure to collect such data.

For the convenience of the affected parties, the Order is recited below in its entirety. You may access this Order from FHFA's Web site at http://www.fhfa.gov/Default.aspx?Page=43. The Order will be available for public inspection and copying at the Federal Housing Finance Agency, Fourth Floor, 1700 G St., NW., Washington, DC 20552. To make an appointment, call (202) 414-6924.

VI. Order

Public Use Database for Enterprise Mortgage Purchases

Whereas, section 1323(a)(1) of the Federal Housing Enterprises Financial Safety and Soundness Act of 1992 (Safety and Soundness Act), as amended, 12 U.S.C. 4543(a)(1), requires the Director of the Federal Housing Finance Agency (FHFA) to make available to the public the non-proprietary single-family and multifamily loan-level mortgage data elements submitted to FHFA by the Federal National Mortgage Association (Fannie Mae) and the Federal Home Loan Mortgage Corporation (Freddie Mac) (collectively, the Enterprises) in their mortgage reports;

Whereas, the responsibility to maintain a public use database (PUDB) for such mortgage data was transferred to FHFA from the U.S. Department of Housing and Urban Development (HUD) pursuant to sections 1122, 1126 and 1127 of the Housing and Economic Recovery Act of 2008 (HERA), Public. Law 110-289 (July 30, 2008), see 12 U.S.C. 4543(a)(2);

Whereas, the mortgage data submitted by Fannie Mae and Freddie Mac are contained in their reports required under section 309(m) of the Federal National Mortgage Association Charter Act, as amended, 12 U.S.C. 1723a(m), and section 307(e) of the Federal Home Loan Mortgage Corporation Act, as amended, 12 U.S.C. 1456(e), respectively (hereafter, Charter Acts), and include mortgage data characteristics of single-family and multifamily mortgagors and data on the Enterprises' single-family and multifamily mortgage purchases;

Whereas, section 1126 of HERA amended section 1323 of the Safety and Soundness Act by requiring that such data submitted by the Enterprises in their mortgage reports shall include the data elements required to be reported under the Home Mortgage Disclosure Act of 1975 (HMDA), 12 U.S.C. 2801 et seq., at the census tract level, and that such data elements be disclosed to the public, see 12 U.S.C. 4543;

Whereas, to comply with sections 1323 and 1326 of the Safety and Soundness Act, as amended, it is necessary to make changes to the data fields in FHFA's single-family and multifamily matrices of the PUDB to incorporate the data elements required thereunder and to reflect HMDA reporting practices;

Whereas, FHFA has determined that certain technical revisions to the data elements in the single-family and multifamily matrices of the PUDB should also be made to conform the data fields to long-standing PUDB data reporting practice, to provide greater clarity, or to conform to the new statutory requirements;

Whereas, the Enterprises were provided with an opportunity to review and comment on proposed revisions to the data fields in the single-family and multifamily matrices of the PUDB, and FHFA has taken the Enterprises' comments into consideration in adopting this Order;

Whereas, FHFA requested that the Enterprises provide it with specific new mortgage data for inclusion in the PUDB in accordance with the requirements of HERA, and the Enterprises provided the specific data that they currently collect;

Now, therefore, it is hereby ordered as follows:

1. The data fields in the single-family and multifamily matrices of the PUDB are revised as set forth in the attached Appendix which is incorporated herein by reference;

2. The Enterprises shall provide FHFA with the mortgage data required to populate the data fields described in the single-family and multifamily matrices in the Appendix; and

3. This Order supersedes the HUD Final Order of October 4, 2004 (69 FR 59476) and shall be effective until such time as FHFA determines that it is necessary and/or appropriate to withdraw or modify it.

Signed at Washington, DC, this 1st day of July 2010.
Wanda DeLeo,
Acting Deputy Director for Housing Mission and Goals By delegation.
Dated: July 8, 2010.
Edward J. DeMarco,
Acting Director, Federal Housing Finance Agency.

BILLING CODE 8070-01-P

[FR Doc. 2010-17119 Filed 7-14-10; 8:45 am]

BILLING CODE 8070-01-C